DEPARTMENT OF HEALTH AND HUMAN SERVICES

Administration for Children and Families

Proposed Information Collection Activity; Comment Request

Proposed Projects

Title: Runaway and Homeless Youth Program Regulations—Final Rule.

OMB No.: New Collection.

Description: The Runaway and Homeless Youth program is administered by the Family and Youth Services Bureau (FYSB). The authorizing legislation for the Runaway and Homeless Youth (RHY) Program, Pub. L. 106-71 (42 U.S.C. 5701), Section 311, set forth provisions for awarding grants through a competitive process to public and nonprofit private entities (and combinations of such entities) to establish and operate local programs to provide services for runaway and homeless youth and for their families. For the competitive grant making process, eligible entities are required to describe their goals, plans (scope of activities), capacities and other qualifications for receiving Federal funding to operate the type of youth services programs authorized under the RHY Act. The detailed information is collected via the Uniform Project Description (UPD), OMB control number 0970-0139. The UPD information collected is the basis for determining the most appropriate entities for grant funding. Basic organizational and summary budget information required by OMB circular A-102 as part of an “Application for Federal Assistance” is also collected via the SF-424 (OMB control number 0348-0043), the SF-424A (OMB control number 0348-0044), the SF-424B (OMB control number 0348-0040) and the “Disclosure of Lobbying Activities” SF-LLL (OMB number 0348-0046). The information is requested annually through the RHY Program Announcement. The program regulations implementing provisions of the RHY Act limit grants project periods to three years (a limit not specified in the statue). The final rule would change the project periods from a maximum of three years to five years. The regulation change is technical in nature and will allow FYSB the flexibility and discretion to award some grants for five-year periods, instead of three years. The regulatory change will not increase the burden for any entities. The change will only affect the frequency of application submission.

Respondents: Community-based Organizations, States, and Tribes.

Annual Burden Estimates
Instrument | Number of Respondents | Number of responses per respondent | Average burden hours per response | Total burden hours
Application | 500 | 1 | 20 | 10,000
Estimated Total Annual Burden Hours |  |  |  | 10,000

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection.

The Department specifically requests comments on: (1) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: June 13, 2000.
Bob Sargis,
Reports Clearance Officer.

[FR Doc. 00-15339 Filed 6-16-00; 8:45 am]

BILLING CODE 4184-01-M